DEPARTMENT OF ENERGY

Federal Energy Regulatory Commission

Docket No. CP03-13-000]

Northwest Pipeline Corporation; Notice of Application

November 27, 2002.

Take notice that on November 20, 2002, Northwest Pipeline Corporation (Northwest), 295 Chipeta Way, Salt Lake City, Utah, filed in Docket No. CP03-13-000, an application pursuant to section 7(b) of the Natural Gas Act (NGA), as amended, and part 157 of the regulations of the Federal Energy Regulatory Commission (Commission), for permission and approval to abandon pipeline and appurtenant facilities in Clackamas County, Oregon, all as more fully set forth in the application which is on file with the Commission and open to public inspection. Copies of this filing are on file with the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659.

Northwest proposes to abandon approximately 1.4 miles of existing 16-inch pipeline on its Camas to Eugene Lateral located in Clackamas County, Oregon. It is stated that the pipeline segment proposed for abandonment, located in the Clackamas River bed, that has become exposed due to high water flows in the river and that the exposed pipe is a navigation hazard to those utilizing the river for recreational activities and must be removed for safety reasons. It is asserted that the pipeline segment would be abandoned partially by removal (approximately 5,860 feet) and partially in place (approximately 1,270 feet of pipeline that is located at a sufficient depth that removal is not warranted). Northwest explains that the pipeline segment is not needed for Northwest's existing design and operations because the nearby 20-inch high pressure loop pipeline accommodates all existing service requirements in the area. It is further explained that the 20-inch loop pipeline was installed at a significantly deeper depth and at a location determined to be more hydrologically stable than the 16-inch pipeline. The cost of the proposed abandonment is estimated at $1.4 million. Northwest proposes to complete the abandonment by September 2003.

Any questions concerning this application may be directed to Gary Kotter, Manager, Certificates and Tariffs, at (801) 584-7117, Northwest Pipeline Corporation, P.O. Box 58900, Salt Lake City, Utah 84158.

There are two ways to become involved in the Commission's review of this project. First, any person wishing to obtain legal status by becoming a party to the proceedings for this project should, on or before December 18, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link. The Commission strongly encourages intervenors to file electronically.

If the Commission decides to set the application for a formal hearing before an Administrative Law Judge, the Commission will issue another notice describing that process. At the end of the Commission's review process, a final Commission order approving or denying a certificate will be issued.

Linwood A. Watson, Jr.,
Deputy Secretary.

[FR Doc. 02-30707 Filed 12-3-02; 8:45 am]

BILLING CODE 6717-01-P